DEPARTMENT OF STATE

September 14, 2020 [Public Notice: 11203]

Notice of Public Meeting of the U.S. President's Emergency Plan for AIDS Relief (PEPFAR) Scientific Advisory Board

SUMMARY: In accordance with the Federal Advisory Committee Act, the U.S. Department of State is hereby giving notice that the PEPFAR Scientific Advisory Board (SAB) will be holding a meeting utilizing virtual technology. The meeting will be open to the public; a public comment session will be held during the meeting. Pre-registration is required for both public participation and comment.

DATES: The meeting will be held on Wednesday, October 7, 2020, from approximately 10:00 a.m. to 3:00 p.m. (ET) and on Thursday, October 8, 2020 from approximately 9:00 a.m. to 2:00 p.m. (ET). This meeting will be conducted utilizing Cisco WebEx virtual technology.

Agenda: SAB members will be discussing the novel coronavirus (COVID-19) and its impact on people living with or at risk of HIV infection; new biomedical preventions products; PEPFAR 2020 plans, programs and performance; adolescents and children with HIV; and advanced HIV disease. The agenda will be posted on the SAB website at www.state.gov/scientific-advisory-board-pepfar and also shared with registered participants. Registered members of the public will be permitted to participate in a question and answer period following the meeting in accordance with the Chair's instructions

ADDRESSES: Individuals who wish to participate in the meeting and/or provide public comment should register by sending an email to SolomonCD@state.gov or directly at https://forms.gle/XTrWnPQoQWJhadhJ6. Individuals will be required to provide their name, organization, and email address to register not later than September 30, 2020. The WebEx site will be forwarded to individuals who register by that time, up to the capacity of the meeting. Individuals requiring reasonable accommodation should also make their request by that date. Requests made after that date will be considered but might not be able to be fulfilled.

FOR FURTHER INFORMATION CONTACT: Dr. Sara Klucking, Designated Federal Officer for the Board, Office of the U.S. Global AIDS Coordinator and Health Diplomacy at KluckingSR@state.gov or (202) 704-5598. Additional information can also be obtained by accessing the SAB's page on the PEPFAR site at www.state.gov/scientific-advisory-board-pepfar.

SUPPLEMENTARY INFORMATION: The Board is established under the general authority of the Secretary of State and the Department of State (“the Department”) as set forth in 22 U.S.C. 2656, and consistent with the Federal Advisory Committee Act, as amended (5 U.S.C. Appendix). The Board serves the U.S. Global AIDS Coordinator solely in an advisory capacity concerning scientific, implementation, and policy issues related to the global response to HIV/AIDS.

Zachary A. Parker,
Director, Office of Directives Management.

[FR Doc. 2020-20180 Filed 9-11-20; 8:45 am]

BILLING CODE 4710-10-P